DEPARTMENT OF ENERGY

Federal Energy Regulatory Commission

Combined Notice of Filings #1

Take notice that the Commission received the following electric corporate filings:

Docket Numbers: EC11-35-000.

Applicants: NSTAR, Northeast Utilities.

Description: Informational Filing of Eversource Energy Service Company.

Filed Date: 2/29/16.

Accession Number: 20160229-5193.

Comments Due: 5 p.m. ET 3/22/16.

Docket Numbers: EC16-83-000.

Applicants: High Lonesome Mesa Wind Holdings, LLC, High Lonesome Holdings, LLC.

Description: Amendment to February 29, 2016 Application for Authorization under Section 203 of the Federal Power Act of High Lonesome Holdings, LLC, et al.

Filed Date: 3/10/16.

Accession Number: 20160310-5212.

Comments Due: 5 p.m. ET 3/21/16.

Take notice that the Commission received the following exempt wholesale generator filings:

Docket Numbers: EG16-69-000.

Applicants: Roswell Solar, LLC.

Description: Notice of Self-Certification of Exempt Wholesale Generator Status of Roswell Solar, LLC.

Filed Date: 3/11/16.

Accession Number: 20160311-5047.

Comments Due: 5 p.m. ET 4/1/16.

Docket Numbers: EG16-70-000.

Applicants: Chaves County Solar, LLC.

Description: Notice of Self-Certification of Exempt Wholesale Generator Status of Chaves County Solar, LLC.

Filed Date: 3/11/16.

Accession Number: 20160311-5050.

Comments Due: 5 p.m. ET 4/1/16.

Take notice that the Commission received the following electric rate filings:.

Docket Numbers: ER13-96-008.

Applicants: Black Hills Power, Inc.

Description: Compliance filing: Compliance Filing to Correct eTariff Record to be effective 10/1/2015.

Filed Date: 3/10/16.

Accession Number: 20160310-5184.

Comments Due: 5 p.m. ET 3/31/16.

Docket Numbers: ER13-97-008.

Applicants: Black Hills/Colorado Electric Utility Co.

Description: Compliance filing: Compliance Filing to Correct eTariff Record to be effective 10/1/2015.

Filed Date: 3/10/16.

Accession Number: 20160310-5185.

Comments Due: 5 p.m. ET 3/31/16.

Docket Numbers: ER13-120-008.

Applicants: Cheyenne Light, Fuel and Power Company.

Description: Compliance filing: Compliance Filing to Correct eTariff Record to be effective 10/1/2015.

Filed Date: 3/10/16.

Accession Number: 20160310-5186.

Comments Due: 5 p.m. ET 3/31/16.

Docket Numbers: ER15-1218-002; ER15-2224-001.

Applicants: Solar Star California XIII, LLC, Solar Star Colorado III, LLC.

Description: Notice of Non-Material Change in Status of Solar Star California XIII, LLC and Solar Star Colorado III, LLC.

Filed Date: 3/10/16.

Accession Number: 20160310-5206.

Comments Due: 5 p.m. ET 3/31/16.

Docket Numbers: ER16-168-002.

Applicants: New York Independent System Operator, Inc.

Description: Compliance filing: NYISO compliance re: unauthorized natural gas use to be effective 2/18/2016.

Filed Date: 3/11/16.

Accession Number: 20160311-5051.

Comments Due: 5 p.m. ET 4/1/16.

Docket Numbers: ER16-532-001.

Applicants: PJM Interconnection, L.L.C.

Description: Compliance filing: Compliance Filing per 2/12/16 Order in Docket No. ER16-532 to be effective 2/15/2016.

Filed Date: 3/11/16.

Accession Number: 20160311-5197.

Comments Due: 5 p.m. ET 4/1/16.

Docket Numbers: ER16-917-001; ER14-2458-001; ER11-3013-005; ER10-2872-005; ER10-2870-006; ER10-2868-005; ER10-2865-006; ER10-2860-007.

Applicants: TC Ironwood LLC, TransCanada Power Marketing Ltd, TransCanada Energy Sales Ltd., TC Ravenswood, LLC, TransCanada Maine Wind Development Inc., TransCanada Hydro Northeast Inc., Ocean State Power LLC, Coolidge Power LLC.

Description: Amendment to March 2, 2016 Notice of Non-Material Change in Status of TransCanada MBR Sellers.

Filed Date: 3/8/16.

Accession Number: 20160308-5148.

Comments Due: 5 p.m. ET 3/18/16.

Docket Numbers: ER16-1135-000.

Applicants: Healthy Planet Partners Energy Company, LLC.

Description: Tariff Cancellation: MBRA Amendment Cancellation to be effective 3/31/2016.

Filed Date: 3/11/16.

Accession Number: 20160311-5007.

Comments Due: 5 p.m. ET 4/1/16.

Docket Numbers: ER16-1136-000.

Applicants: Southwest Power Pool, Inc.

Description: § 205(d) Rate Filing: 1154R12 Associated Electric Cooperative NITSA and NOA to be effective 3/1/2016.

Filed Date: 3/11/16.

Accession Number: 20160311-5049.

Comments Due: 5 p.m. ET 4/1/16.

Docket Numbers: ER16-1138-000.

Applicants: PJM Interconnection, L.L.C.

Description: Request of PJM Interconnection, L.L.C. for Limited Tariff Waiver and Expedited Treatment.

Filed Date: 3/11/16.

Accession Number: 20160311-5083.

Comments Due: 5 p.m. ET 03/21/16.

Docket Numbers: ER16-1142-000.

Applicants: Innovative Solar 43, LLC.

Description: Tariff Cancellation: Innovative Solar 43, LLC Notice of Cancellation to be effective 3/12/2016.

Filed Date: 3/11/16.

Accession Number: 20160311-5148.

Comments Due: 5 p.m. ET 4/1/16.

Docket Numbers: ER16-1143-000.

Applicants: PJM Interconnection, L.L.C.

Description: Tariff Cancellation: Notice of Cancellation of Beech Ridge II ISA No. 3087, Queue No. M24 to be effective 5/2/2016.

Filed Date: 3/11/16.

Accession Number: 20160311-5157.

Comments Due: 5 p.m. ET 4/1/16.

Docket Numbers: ER16-1144-000.

Applicants: PacifiCorp.

Description: Tariff Cancellation: Termination of PAC Energy Construction Agmt—Paisley to be effective 5/11/2016.

Filed Date: 3/11/16.

Accession Number: 20160311-5165.

Comments Due: 5 p.m. ET 4/1/16.

Docket Numbers: ER16-1145-000.

Applicants: PJM Interconnection, L.L.C.

Description: § 205(d) Rate Filing: First Revised Service Agreement No. 4173; Queue Position Z1-066 to be effective 2/10/2016.

Filed Date: 3/11/16.

Accession Number: 20160311-5182.

Comments Due: 5 p.m. ET 4/1/16.

Take notice that the Commission received the following electric securities filings:

Docket Numbers: ES16-24-000.

Applicants: MidAmerican Energy Company.

Description: Application of MidAmerican Energy Company pursuant to Section 204 of the Federal Power Act.

Filed Date: 3/11/16.

Accession Number: 20160311-5039.

Comments Due: 5 p.m. ET 4/1/16.

Docket Numbers: ER16-1146-000.

Applicants: Union Power Partners, L.P.

Description: Tariff Cancellation: Notice of Termination for Rate Schedule FERC No. 2 to be effective 3/3/2016.

Filed Date: 3/11/16.

Accession Number: 20160311-5207.

Comments Due: 5 p.m. ET 4/1/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2016.
Nathaniel J. Davis, Sr.,
Deputy Secretary.

[FR Doc. 2016-06021 Filed 3-16-16; 8:45 am]

BILLING CODE 6717-01-P